DEPARTMENT OF ENERGY

Federal Energy Regulatory Commission

[Docket No. ER09-1312-000; Docket No. ER09-1313-000]

Riverside Energy Center, LLC; RockGen Energy, LLC; Notice Suspending Due Date for Interventions, Protests and Comments

July 8, 2009.

On July 7, 2009, Riverside Energy Center, LLC and RockGen Energy, LLC (collectively the Applicants) filed a motion to hold the above-referenced proceedings in abeyance and to suspend the July 7, 2009 due date for filing comments and protests in this proceeding. The motion states that the Applicants and Interested Parties ¹ from the of the approved 2005 Settlement Agreement in Docket Nos. ER04-1055-000 and ER04-1059-000,² are currently involved in informal settlement negotiations. The Applicants specifically request the Commission to hold the above-referenced proceeding in abeyance for a period of two months, until September 8, 2009, and to suspend the July 7, 2009 comment date for protests and comments. However, the Applicants seek to have the July 7, 2009 date remain in effect for submitting interventions during the current settlement negotiations. In the event the Applicants and Interested Parties do not settle, the Applicants request that the parties that have intervened as of the July 7, 2009 date should be afforded additional time to file protests and/or comments on the proposed revised rate schedules in the above-referenced proceedings and the Commission can then process and consider the filings in the usual manner. The Applicants also state that the Interested Parties and the Original Parties ³ either support this motion or do not oppose this motion.

¹ Interested Parties: Alliant Energy Corporate Services, Inc. (AECS), American Transmission Company, LLC (ATCLLC), Madison Gas & Electric Company (MGE), Midwest Independent Transmission System Operator, Inc. (MISO), Wisconsin Public Power Inc. (WPPI), Wisconsin Public Service Corporation (WPSC); and Upper Peninsula Power Company (UPPCo).

² Riverside Energy Center, LLC and RockGen Energy, LLC, 111 FERC ¶ 61,429 (2005).

³ Original Parties to the 2005 Settlement Agreement: AECS on behalf of itself and its utility operating companies Interstate Power and Light Company and Wisconsin Power and Light Company; ATCLLC; Consumers Energy Company; The Detroit Edison Company; LG&E Energy LLC, on behalf of its utility operating companies, Louisville Gas and Electric Company and Kentucky Utilities Company; Madison Gas & Electric Co.; the MISO.; WPPI.; Wisconsin Electric Power Company; WPSC; and UPPCo.

Upon consideration, notice is hereby given that the previously established July 7, 2009 due date for filing interventions, protests and/or comments is hereby suspended. A new due date for interventions, protests and/or comments will be established upon further notice.

Kimberly D. Bose,
Secretary.

[FR Doc. E9-16716 Filed 7-14-09; 8:45 am]

BILLING CODE 6717-01-P